DEPARTMENT OF DEFENSE

Defense Logistics agency

Privatization of Packaged Petroleum, Oils, and Lubricants and Certain Classes of Chemicals

AGENCY: Defense Logistics Agency, Department of Defense.

ACTION: Notice of Availability of Environmental Assessment and a Draft Finding of No Significant Impact for the Privatization of Packaged Petroleum, Oils, and Lubricants and Certain Classes of Chemicals.

SUMMARY: The Defense Logistics Agency (DLA) announces the availability of the Environmental Assessment (EA) and Draft Finding of No Significant Impact (FONSI) for the privatization of Packaged Petroleum, Oils, and Lubricants (POL) as recommended by the 2005 Base Realignment and Closure (BRAC) Commission, and certain classes of chemicals (Federal Supply Codes (FSCs) 6810, 6820, 6840, and 6850), a non-BRAC related action. Hereafter, POLs and the certain classes of chemicals are collectively referred to as POLs. This announcement is made pursuant to the Council on Environmental Quality's regulations (40 CFR parts 1500-1508) and the DLA regulation (DLAR 1000.22, Environmental Considerations in DLA Actions in the United States) that implement the National Environmental Policy Act (NEPA).

DATES: The public comment period for the EA and Draft FONSI will end 30 days after publication of this NOA in the Federal Register by the Environmental Protection Agency. Comments on the EA and Draft FONSI received by the end of the 30-day period will be considered when preparing the final version of the documents.

ADDRESSES: The EA and Draft FONSI are available for review on the following DLA Web site— http://www.dscr.dla.mil/UserWeb/FAGA/privatize.htm. Written comments should be sent to Mr. Linwood I. Rogers at: Defense Supply Center Richmond, Attn: DSCR-G, 800 Jefferson Davis Highway, Richmond, VA 23297. Comments may also be faxed to Mr. Rogers at (804) 279-4137.

FOR FURTHER INFORMATION CONTACT: Mr. Linwood I. Rogers, Phone (804) 279-1425 during normal business hours Monday through Friday or E-Mail: Linwood.Rogers@dla.mil.

SUPPLEMENTARY INFORMATION: Under the Proposed Action, DLA would disestablish the wholesale supply, storage, and distribution functions for POLs at a variety of DLA sites nationwide, and centralize the supply contracting function at a single site—the Defense Supply Center, Richmond, Virginia (DSCR). All POL storage, supply, and distribution functions would be privatized through a competitive contracting mechanism. The selected private contractor would take over DLA's role in providing wholesale supply, storage, and distribution of POLs. DSCR would retain oversight over any long-term contracts resulting from the privatization. The anticipated result of this privatization program will be the continued streamlining of DLA functions and improved support to the warfighter. This would be accomplished by leveraging the commercial industry to provide more efficient management of the supply chain that will decrease maintenance delays through better product availability, lower costs to the government through economies of scale, and provide better delivery times through established commercial distribution and warehousing structures.

The EA analyzes the potential effects on the human and natural environments of the Proposed Action, including Land Use, Transportation and Infrastructure, Air Quality, Socioeconomics, Biological Resources, Cultural Resources, and Hazardous Materials, as well as aesthetic and Visual Resources, Noise, Geology and Soils, Water Resources, and Utilities. The No Action alternative, in which the Proposed Action would not be implemented, is also analyzed and provides the baseline conditions for comparison to the Proposed Action. The EA concludes that privatizing the wholesale supply, storage and distribution functions for POLs would result in no significant beneficial or adverse impacts on the environment.

Dated: March 21, 2007.
M.F. Heinrich,
Rear Admiral, SC, USN, Commander.

[FR Doc. 07-1531 Filed 3-28-07; 8:45 am]

BILLING CODE 3620-01-M